DEPARTMENT OF VETERANS AFFAIRS

Privacy Act of 1974; System of Records

AGENCY: Department of Veterans Affairs (VA).

ACTION: Notice of Amendment of System of Records Notice “Purchase Credit Card Program—VA” (131VA047).

SUMMARY: As required by the Privacy Act of 1974 (5 U.S.C. 552a(e)(4), (11)), notice is hereby given that the Department of Veterans Affairs (VA) is amending the system of records entitled “Purchase Credit Card Program—VA” record retention and disposal instructions. VA is republishing the system of records notice in its entirety.

DATES: This amended system of record will be effective September 9, 2015.

FOR FURTHER INFORMATION CONTACT: Ronald Hallameyer, Office of Financial Policy (047G), Department of Veterans Affairs, 810 Vermont Avenue NW., Washington, DC 20420, Telephone: (202) 461-6486 (this is not a toll-free number).

SUPPLEMENTARY INFORMATION: The Department is proposing to amend its system of records entitled “Purchase Credit Card Program—VA” by updating the “Retention and Disposal” instructions. Retention and disposal language is amended to reflect a recent change to the National Archives and Records Administration's General Records Schedule and to clarify when VA will destroy associated documents.

“Records are maintained and disposed of in accordance with records disposition authority approved by the Archivist of the United States. In accordance with General Records Schedule 1.1, Item #10, destroy 6 years after final payment or cancellation, but longer retention is authorized if required for business use.”

Signing Authority

The Secretary of Veterans Affairs, or designee, approved this document and authorized the undersigned to sign and submit the document to the Office of the Federal Register for publication electronically as an official document of the Department of Veterans Affairs. Robert L. Nabors II, Chief of Staff, approved this document on August 18, 2015, for publication.

Dated: September 1, 2015.
Kathleen M. Manwell,
Program Analyst, VA Privacy Service, Office of Privacy and Records Management, Department of Veterans Affairs.

Notice of Amendment to System of Records

The system of records identified as “Purchase Credit Card Program—VA (131VA 047)”, published at 70 FR 7320, February 11, 2005 and amended at 74 FR 14618, March, 31, 2009, is revised to update the Retention and Disposal Instructions as follows:

131VA047

System Name: Purchase Credit Card Program—VA

* * * * *

Retention and Disposal:

Records are maintained and disposed of in accordance with records disposition authority approved by the Archivist of the United States. In accordance with General Records Schedule 1.1, Item #10, destroy 6 years after final payment or cancellation, but longer retention is authorized if required for business use.

* * * * *

[FR Doc. 2015-22620 Filed 9-8-15;8:45 am]

BILLING CODE P